NUCLEAR REGULATORY COMMISSION

Request to Amend a License To Export Radioactive Waste

Pursuant to 10 CFR 110.70(C) “Public notice of receipt of an application,” please take notice that the Nuclear Regulatory Commission has received the following request to amend an export license. Copies of the request are available electronically through ADAMS and can be accessed through the Public Electronic Reading Room (PERR) link http://www.nrc.gov/reading-rm/adams.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning this amendment request follows.

NRC Export License Application
Description of material
| Material type | Total quantity | End use | Recipient country
Name of Applicant: AREVA NP Inc. Date of Application: December 1, 2006 Date Received: December 5, 2006 Application No.: XW007/02 Docket No.: 11005292 | Class A radioactive waste in the form of contaminated metals | License to be amended to extend expiration date to 12/31/2010 and change licensee name Total quantity of contaminants authorized for export remains 3.0 kilograms of uranium-235 (5.0 w/o maximum) contained in 60 kilograms uranium | Metals to be decontaminated and uranium to be disposed of at AECL Chalk River Ontario | Canada
Licenses originally issued to Framatome ANP, Inc.)

Dated this 7th day of March 2007 at Rockville, Maryland.
For the Nuclear Regulatory Commission.
Margaret M. Doane,
Deputy Director, Office of International Programs.

[FR Doc. E7-4870 Filed 3-15-07; 8:45 am]

BILLING CODE 7590-01-P